DEPARTMENT OF TRANSPORTATION

Federal Aviation Administration

Tenth Meeting: RTCA Special Committee 222, Inmarsat Aeronautical Mobile Satellite (Route) Services

AGENCY: Federal Aviation Administration (FAA), U.S. Department of Transportation (DOT).

ACTION: Meeting Notice of RTCA Special Committee 222, Inmarsat Aeronautical Mobile Satellite (Route) Services.

SUMMARY: The FAA is issuing this notice to advise the public of the tenth meeting of RTCA Special Committee 222, Inmarsat Aeronautical Mobile Satellite (Route) Services.

DATES: The meeting will be held September 11-13, 2012, from 9:30 a.m.-5:00 p.m.

ADDRESS: The meeting will be held at RTCA, Inc., 1150 18th Street NW., Suite 910, Washington, DC, 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 222. The agenda will include the following:

Tuesday, September 11, 2012

• Greetings & Attendance.

• Review summary of June 2102 meeting (9th Plenary).

• Detailed review of modifications to generic MASPS draft as agreed at 9th Plenary. The version to be reviewed is Rev2.1, posted on the RTCA SC-222 Workspace.

• Detailed review of SBB-specific material for MASPS. Available material will be posted no later than September 4, 2012.

• Status, update and review SBB-specific material for DO-262A. Available material will be posted no later than September 4, 2012.

• Other items as appropriate.

• Review of action items from 9th Plenary.

• Schedule for 11th Plenary.

• Adjourn.

Wednesday, September 12

• It is anticipated that the Plenary session will be completed on Tuesday, September 11. A room has been reserved for Wednesday, September 12 to accommodate editing activities on both the MASPS and MOPs. Webex/telecom will be available on both days.

Thursday, September 13

• It is anticipated that the Plenary session will be completed on Tuesday, September 11. A room has been reserved for Wednesday, September 12 to accommodate editing activities on both the MASPS and MOPs. Webex/telecom will be available on both days.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 7, 2012.
David Sicard,
Manager, Business Operations Branch, Federal Aviation Administration.

[FR Doc. 2012-19908 Filed 8-13-12; 8:45 am]

BILLING CODE 4910-13-P